ENVIRONMENTAL PROTECTION AGENCY

[ER-FRL-9002-6]

Environmental Impacts Statements; Notice of Availability

Responsible Agency: Office of Federal Activities, General Information (202) 564-7146 or http://www.epa.gov/compliance/nepa/.

Weekly receipt of Environmental Impact Statements

Filed 04/09/2012 through 04/13/2012

Pursuant to 40 CFR 1506.9.

Notice

Section 309(a) of the Clean Air Act requires that EPA make public its comments on EISs issued by other Federal agencies. EPA's comment letters on EISs are available at: http://www.epa.gov/compliance/nepa/eisdata.html.

SUPPLEMENTARY INFORMATION: EPA is seeking agencies to participate in its e-NEPA Electronic EIS Submission Pilot. Participating agencies can fulfill all requirements for EIS filing, eliminating the need to submit paper copies to EPA headquarters, by filing documents online and providing feedback on the process. To get more information on participating in the pilot, please contact Justin Wright (wright.justin@epa.gov) or Dawn Roberts (roberts.dawn@epa.gov).

EIS No. 20120103, Final EIS, USACE, 00, Savannah Harbor Expansion Project, Navigation Improvements to the Federal Navigation Channel, Chatham County, GA and Jasper County, SC, Review Period Ends: 05/21/2012, Contact: William Bailey 912-652-5781.

EIS No. 20120104, Draft EIS, NOAA, ME, Amendment 5 to the Atlantic Herring Fishery Management Plan, Implementation of Management Measures to Adjust the Fishery Management Program for Federally Managed Atlantic Herring Fishery, Gulf of Maine, Comment Period Ends: 06/04/2012, Contact: Paul Howard 978-465-3316.

EIS No. 20120105, Final EIS, USFS, CA, Kirkwood Meadows Power Line Reliability Project, Proposal to Construct and Operate 34.5 kilovolt Power Line, Eldorado National Forest, Amador, Eldorado, and Alpine Counties, CA, Review Period Ends: 05/21/2012, Contact: Susan A. Rodman 530-621-5298.

EIS No. 20120106, Draft EIS, NOAA, 00, Amendment 14 to the Atlantic Mackerel, Squid, and Butterfish Fishery Management Plan, Implementation, Comment Period Ends: 06/04/2012, Contact: Daniel S. Morris 978-281-9250.

EIS No. 20120107, Final EIS, BLM, OR, John Day Basin Resource Management Plan, To Provide Direction for Managing Public Lands in Central and Eastern Oregon, Prineville District, Grant, Wheeler, Gilliam, Wasco, Sherman, Umatilla, Jefferson and Morrow Counties, OR, Review Period Ends: 05/21/2012, Contact: Monte Kuk 541-416-6700.

EIS No. 20120108, Draft EIS, BLM, CA, Ocotillo Sol Project, Proposed 100- acre Solar Photovoltaic Generation Facility, Possible Issuance of a Right-of-Way Grant, Imperial County, CA, Comment Period Ends: 07/18/2012, Contact: Noel Ludwig 760-833-7104.

EIS No. 20120109, Draft EIS, FHWA, OR, Salem River Crossing Project, Proposes to Build a Modified or New Crossing of the Willamette River in Salem, Funding, USACE Section 10 and 404 Permits, Marion and Polk Counties, OR, Comment Period Ends: 06/18/2012, Contact: Cindy Callahan 503-399-5749.

EIS No. 20120110, Final EIS, USFWS, CA, Sears Point Wetland and Watershed Restoration Project, To Restore Tidal Wetlands and Rehabilitate Diked Wetlands, Sonoma County, CA, Review Period Ends: 05/21/2012, Contact: Don Brubaker 707-769-4200.

EIS No. 20120111, Draft EIS, USFS, AZ, Kaibab National Forest Land and Resource Management Plan, Implementation, Coconino, Yavapai, and Mojave Counties, AZ, Comment Period Ends: 07/18/2012, Contact: Ariel Leonard 928-635-8200.

EIS No. 20120112, Draft EIS, USFS, AK, Greens Creek Mine Tailings Disposal Facility Expansion, USACE Section 404 Permit, Admiralty National Monument, Tongass National Forest, Juneau, AK, Comment Period Ends: 06/04/2012, Contact: Sarah Samuelson 907-789-6202.

Amended Notices

EIS No. 20120091, Second Draft Supplement, BLM, AK, National Petroleum Reserve—Alaska (NPR-A) Integrated Activity Plan, To Determine Appropriate Management BLM-Administrated Lands in the NPR-A, North Slope Borough, AK, Comment Period Ends: 05/29/2012, Contact: Jim Ducker 907-271-3130.

Revision to FR Notice Published 3/30/2012; Correction to Document Status from Second Draft Supplemental to Draft and Change Comment Period from 05/29/2012 to 06/01/2012.

EIS No. 20120098, Draft EIS, USAF, 00, F-35A Operational Basing, Beddown and Operation of F-35A Aircraft for the Combat Air Forces at One or More Locations throughout the Contiguous U.S. from 2015 through 2020, Comment Period Ends: 06/01/2012, Contact: Nicholas Germanos 757-764-5994.

Revision to FR Notice Published 4/13/2012; Change Comment Period Ends from 06/04/2012 to 06/01/2012.

Dated: April 17, 2012.
Cliff Rader,
Director, NEPA Compliance Division, Office of Federal Activities.

[FR Doc. 2012-9584 Filed 4-19-12; 8:45 am]

BILLING CODE 6560-50-P